ENVIRONMENTAL PROTECTION AGENCY

[FRL-7405-8]

Agency Information Collection Activities: Proposed Collection; Comment Request: Federal Plan Requirements for Municipal Solid Waste Landfills That Commenced Construction Prior to May 30, 1991 and Have Not Been Modified or Reconstructed Since May 30, 1991; EPA ICR Number 1893.03; OMB Control Number 2060-0430; Expiration Date February 28, 2003

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Federal Plan Requirements for Municipal Solid Waste Landfills That Commenced Construction Prior to May 30, 1991 and Have Not Been Modified or Reconstructed Since May 30, 1991; EPA ICR Number 1893.03; OMB Control Number 2060-0430; expiration date February 28, 2003. Before submitting the ICR to OMB for review and approval, EPA is soliciting comments on specific aspects of the proposed information collection as described below.

DATES: Comments must be submitted on or before January 6, 2003.

ADDRESSES: Compliance Assessment and Media Programs Division, Office of Compliance, Office of Enforcement and Compliance Assurance, Mail Code 2223A, United States Environmental Protection Agency, 1200 Pennsylvania Avenue, NW., Washington, DC 20460. A hard copy of a specific ICR may be obtained without charge by calling or sending an E-mail to the contact person listed in this notice.

FOR FURTHER INFORMATION CONTACT: Sharie A. Centilla of the Office of Compliance at (202) 564-0697 or via E-mail at Centilla.Sharie@epa.gov and ask for EPA ICR Number 1893.03; OMB Control Number 2060-0430; expiration date February 28, 2003.

SUPPLEMENTARY INFORMATION:

Title: Federal Plan Requirements for Municipal Solid Waste Landfills That Commenced Construction Prior to May 30, 1991 and Have Not Been Modified or Reconstructed Since May 30, 1991 (40 CFR Part 62, Subpart GGG); EPA ICR Number 1893.03; OMB Control Number 2060-0430; expiration date February 28, 2003.

Affected Entities: Entities potentially affected by this action are owners or operators of existing municipal solid waste landfills that are located in any State for which a State plan has not been approved and become effective.

Abstract: The Agency has determined that the emissions from municipal solid waste landfills cause, or contribute significantly to air pollution that may reasonably be anticipated to endanger public health or welfare. The Administrator is charged under Section 111 of the Clean Air Act (CAA) to establish procedures for each State to submit a plan that would establish standards of performance for any existing source for any air pollutant. If the State has not developed such a plan, then the Administrator may require any person who owns or operates any emission source or is subject to any requirements of the CAA, to establish and maintain reports; make reports; install, use, and maintain monitoring equipment or methods; sample emissions; and provide any other information as required.

All owners and operators of existing municipal solid waste landfills must submit an initial design capacity report. If the design capacity of an existing landfill is equal to or greater than 2,500,000 megagrams in weight and equal to or greater than 2,500,000 cubic meters in volume, the owner or operator is required to determine the facility's annual, nonmethane, organic compound (NMOC) emission rate. Based on a three-tier emission rate calculation system, the owner or operator is required to either install a collection and control system, or perform emission test using the criteria specified at the next tier level. If the NMOC emission rate is determined to be less than 50 megagrams per year, as determined by Tier 1, Tier 2, or Tier 3 emission rate calculations, no further calculations or testing is required for that year.

For landfills required to install collection and control systems, submission of a collection and control system design plan is required. After review of the design plan and installation of the collections and control system, and initial performance test and report for the system is required. There after, annual compliance reports are required. Owners or operators are required to keep continuous monitoring records of the parameters reported in the initial performance report and records of monthly monitoring of surface methane concentration.

Burden Statement: The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

In the previously approved ICR, the estimated number of respondents for this information collection was 3,837 with 384 responses per year. The annual industry reporting and recordkeeping burden for this collection of information was 15,110 hours. On the average, each respondent reported approximately 0.10 times per year and approximately 39 hours were spent preparing each response. The total annual reporting and recordkeeping cost burden for this collection of information was $890,000. This included an annual cost of $788,000 associated with capital/startup costs and $102,000 associated with the annual operation and maintenance costs.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 29, 2002.
Michael M. Stahl,
Director, Office of Compliance.

[FR Doc. 02-28355 Filed 11-6-02; 8:45 am]

BILLING CODE 6560-50-P